DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Business and Professional Classification Report.

Form Number(s): SQ-CLASS.

Agency Approval Number: 0607-0189.

Type of Request: Revision of a currently approved collection.

Burden: 10,835 hours.

Number of Respondents: 50,000.

Avg. Hours Per Response: 13 minutes.

Needs and Uses: The U.S. Census Bureau sponsors the SQ-CLASS, “Business and Professional Classification Report,” to collect information needed to keep the retail, wholesale, and services samples current with the business universe. Because of rapid changes in the marketplace caused by the emergence of new businesses, the death of others, and changes in company organization, the Census Bureau canvasses a sample of new Employer Identification Numbers (EINs) obtained from the Internal Revenue Service (IRS) and the Social Security Administration (SSA). Each firm selected in this sample is canvassed once for data on the establishment(s) associated with the new EIN. A different sample of EINs is canvassed four times a year.

We are revising the layout and wording of Item 9 of the SQ-CLASS form and the corresponding section of the instruction sheet to improve the assignment of kind-of-business codes based on the North American Industry Classification System (NAICS). We do not expect these changes to increase burden.

The completed SQ-CLASS form provides sales, receipts, or revenue; company organization; new or refined NAICS codes; and other key information needed for sampling to maintain proper coverage of the universe. Based on the collected information, EINs meeting the criteria for inclusion in the Census Bureau's retail, wholesale, or service surveys are subjected to second sampling. The retail and wholesale EINs selected in this second sampling are placed on a panel to report in our monthly surveys. Additional panels of selected units are included in the annual surveys. The selected service EINs report on an annual basis.

Affected Public: Business or other for-profit; Not-for-profit institutions.

Frequency: Respondents are contacted only once.

Respondent's Obligation: Voluntary.

Legal Authority: 13 U.S.C. 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax ((202) 395-7245) or e-mail (susan_schechter@omb.eop.gov).

Dated: February 16, 2005.
Madeleine Clayton,
Management Analyst, Office of the Chief Information Officer.

[FR Doc. 05-3393 Filed 2-22-05; 8:45 am]

BILLING CODE 3510-07-P